DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On January 12, 2018, OFAC determined that the property and interests in property subject to U.S. jurisdiction of the following persons are blocked under the relevant sanctions authorities listed below.

Individuals

1. LARIJANI, Sadegh Amoli (a.k.a. LARIJANI, Sadegh; a.k.a. LARIJANI, Sadeq; a.k.a. LARIJANI, Sadeq Ardeshir; a.k.a. LARIJANI-AMOLI, Sadegh Ardeshir), Iran; DOB 1960; POB Najaf, Iraq; Additional Sanctions Information—Subject to Secondary Sanctions; Gender Male; Ayatollah; Head of the Judiciary (individual) [IRAN-HR].

Designated pursuant to section 1(a)(ii)(A) of Executive Order 13553 of September 28, 2010, “Blocking Property of Certain Persons With Respect to Serious Human Rights Abuses by the Government of Iran and Taking Certain Other Actions” (“E.O. 13553”), for being an official of the Government of Iran or a person acting on behalf of the Government of Iran (including members of paramilitary organizations) who is responsible for or complicit in, or responsible for ordering, controlling, or otherwise directing, the commission of serious human rights abuses against persons in Iran or Iranian citizens or residents, or the family members of the foregoing, on or after June 12, 2009, regardless of whether such abuses occurred in Iran.

2. RAZAVI, Morteza (a.k.a. RAZAVI, Seyed Morteza; a.k.a. REZAVI, Mortaza); DOB 09 Apr 1973; POB Tehran, Iran; Additional Sanctions Information—Subject to Secondary Sanctions; Gender Male (individual) [NPWMD] [IFSR].

Designated pursuant to section 1(a)(iv) of Executive Order 13382 of June 28, 2005, “Blocking Property of Weapons of Mass Destruction Proliferators and Their Supporters” (“E.O. 13382”), for acting for or on behalf of, directly or indirectly, FANAMOJ, a person whose property and interests in property are blocked pursuant to E.O. 13382, and GREEN WAVE TELECOMMUNICATION.

3. YUHUA, Shi (a.k.a. HUA, Shi Yu; a.k.a. SHI, Yuhua; a.k.a. “SHI, Arlex”), China; DOB 05 Aug 1976; nationality China; Additional Sanctions Information—Subject to Secondary Sanctions; Gender Male; Passport PE0475719 (China) expires 14 Nov 2019 (individual) [NPWMD] [IFSR].

Designated pursuant to section 1(a)(iii) of E.O. 13382 for having provided, or attempted to provide, financial, material, technological or other support for, or goods or services in support of, SHIRAZ ELECTRONICS INDUSTRIES, a person whose property and interests in property are blocked pursuant to E.O. 13382, and section 1(a)(iv) of E.O. 13382 for acting or purporting to act for or on behalf, directly or indirectly, WUHAN SANJIANG IMPORT AND EXPORT CO. LTD, a person whose property and interests in property are blocked pursuant to E.O. 13382.

4. ZIAEI, Gholamreza, Karaj, Iran; Additional Sanctions Information—Subject to Secondary Sanctions; Gender Male (individual) [IRAN-HR].

Designated pursuant to section 1(a)(ii)(C) of E.O. 13553 for having acted or purported to act for or on behalf of, directly or indirectly, RAJAEE SHAHR PRISON.

5. ZHU, Yuequn; DOB 01 Nov 1979; POB Jiangsu, China; nationality China; Additional Sanctions Information—Subject to Secondary Sanctions; Gender Male; Passport G40986974 (China) expires 01 Mar 2020 (individual) [NPWMD] [IFSR].

Designated pursuant to section 1(a)(iv) of E.O. 13382 for acting or purporting to act for or on behalf, directly or indirectly, BOCHUANG CERAMIC, INC.

Entities

1. BOCHUANG CERAMIC, INC., A101 Songgang Industry Park, No. 368 West Yindu Road, Shanghai 201612, China; website http://www.boceramic.com; Additional Sanctions Information—Subject to Secondary Sanctions [NPWMD] [IFSR].

Designated pursuant to sections 1(a)(iii) of E.O. 13382 for having provided, or attempted to provide, financial, material, technological or other support for, or goods or services in support of, PARDAZAN SYSTEM NAMAD ARMAN.

2. GREEN WAVE TELECOMMUNICATION (a.k.a. GREEN WAVE TECHNOLOGIES; a.k.a. GREEN WAVE TELECOMMUNICATION SDN BHD; a.k.a. GREENWAVE TELECOM; a.k.a. “GREEN WAVE”; a.k.a. “GREEN WAVE COMPANY”; a.k.a. “GWT”), 8, 12, 9, Menara Mutiara, Bangsar, Jalan Liku, Off Jalan Bangsar, Kuala Lumpur 59100, Malaysia; website gwt.com.my; Additional Sanctions Information—Subject to Secondary Sanctions; Registration ID 880140-W (Malaysia) [NPWMD] [IFSR].

Designated pursuant to sections 1(a)(iii) and 1(a)(iv) of E.O. 13382 for having provided, or attempted to provide, financial, material, technological or other support for, or goods or services in support of, and for being owned or controlled by, FANAMOJ, a person whose property and interests in property are blocked pursuant to E.O. 13382.

3. IRAN AIRCRAFT INDUSTRIES (a.k.a. IRAN AIRCRAFT INDUSTRIES CO.; a.k.a. “IACI”; a.k.a. “SAHA”), Km 3 Karaj Special Road, Ekbatan City, Azadi Square, Tehran, Iran; P.O. Box 14155-1449, Iran; Additional Sanctions Information—Subject to Secondary Sanctions [NPWMD] [IFSR].

Designated pursuant to section 1(a)(iv) of Executive Order 13382 for being owned or controlled by Iran's AVIATION INDUSTRIES ORGANIZATION, a person whose property and interests in property are blocked pursuant to E.O. 13382.

4. IRAN HELICOPTER SUPPORT AND RENEWAL COMPANY (a.k.a. IHSRC; a.k.a. IRANIAN HELICOPTERS' MAINTENANCE AND REPAIRS COMPANY; a.k.a. IRAN'S HELICOPTER RENOVATION AND LOGISTICS COMPANY; a.k.a. PANHA), Meherabad Airport Road, Azadi Square, Foroudgah Street, Meradj Avenue, Tehran, Iran; P.O. Box 13185-1688, Tehran, Iran; Additional Sanctions Information—Subject to Secondary Sanctions [NPWMD] [IFSR].

Designated pursuant to section 1(a)(iv) of Executive Order 13382 for being owned or controlled by Iran's Aviation Industries Organization, a person whose property and interests in property are blocked pursuant to E.O. 13382.

5. ISLAMIC REVOLUTIONARY GUARD CORPS ELECTRONIC WARFARE AND CYBER DEFENSE ORGANIZATION (a.k.a. IRGC JANGAL ORGANIZATION), Iran; Additional Sanctions Information—Subject to Secondary Sanctions [SDGT] [IRGC] [IFSR] [HRIT-IR].

Designated pursuant to section 1(a)(ii)(D) of Executive Order 13606 of April 22, 2012, “Blocking the Property and Suspending the Entry Into the United States of Certain Persons With Respect to Grave Human Rights Abuses by the Governments of Iran and Syria via Information Technology” (“E.O. 13606”), for being owned or controlled by, or having acted or purported to act for or on behalf of, directly or indirectly, Iran's ISLAMIC REVOLUTIONARY GUARD CORPS, a person whose property and interests in property are blocked pursuant to E.O. 13606.

6. NATIONAL CYBERSPACE CENTER, Saadat Abad Avenue, North Allameh Street, West 18th Alley—No 17, Tehran, Iran; Additional Sanctions Information—Subject to Secondary Sanctions [IRAN-TRA].

Designated pursuant to section 3(a)(iii) of Executive Order 13628 of October 9, 2012, “Authorizing the Implementation of Certain Sanctions Set Forth in the Iran Threat Reduction and Syria Human Rights Act of 2012 and Additional Sanctions With Respect to Iran” (“E.O. 13628”), for being owned or controlled by Iran's SUPREME COUNCIL OF CYBERSPACE.

7. PARDAZAN SYSTEM NAMAD ARMAN (a.k.a. PARDAZAN SYSTEM HOUSES ARMAN; a.k.a. PASNA; a.k.a. PASNA INDUSTRY CO.; a.k.a. PASNA INTERNATION TRADING CO.), Number 8, Unit 14, Tavana Building, Khan Babaei Alley, Nik Zare Street, Akbari Street, Ashrafti Esfahani Avenue, Tehran, Iran; Ghodarzi Alley, Building No. 11, Alborz, Third Floor, No. 9, Monacoheri St., Saadi St., Tehran, Iran; Sa'di St., Manoucohehri St., Goodarzi Alley, Building No. 11, Alborz, Third Floor, No. 9, Tehran, Iran; website http://www.pasnaindustry.com; Additional Sanctions Information—Subject to Secondary Sanctions [NPWMD] [IFSR].

Designated pursuant to sections 1(a)(iii) of E.O. 13382 for having provided, or attempted to provide, financial, material, technological or other support for, or goods or services in support of, Iran's ELECTRONIC COMPONENTS INDUSTRIES, a person whose property and interests in property are blocked pursuant to E.O. 13382.

8. RAJAEE SHAHR PRISON (a.k.a. GOHARDASHT PRISON; a.k.a. RAJAEI SHAHR PRISON; a.k.a. RAJAI-SHAHR PRISON), Karaj, Iran; Additional Sanctions Information—Subject to Secondary Sanctions [IRAN-HR].

Designated pursuant to section 1(a)(ii)(A) of E.O. 13553 for being an official of the Government of Iran or a person acting on behalf of the Government of Iran (including members of paramilitary organizations) who is responsible for or complicit in, or responsible for ordering, controlling, or otherwise directing, the commission of serious human rights abuses against persons in Iran or Iranian citizens or residents, or the family members of the foregoing, on or after June 12, 2009, regardless of whether such abuses occurred in Iran.

9. SUPREME COUNCIL OF CYBERSPACE, Saadat Abad, Tehran, Iran; Additional Sanctions Information—Subject to Secondary Sanctions [IRAN-TRA].

Designated pursuant to section 3(a)(i) of E.O. 13628 for having engaged in censorship or other activities with respect to Iran on or after June 12, 2009, that prohibit, limit, or penalize the exercise of freedom of expression or assembly by citizens of Iran, or that limit access to print or broadcast media, including the facilitation or support of intentional frequency manipulation by the Government of Iran or an entity owned or controlled by the Government of Iran that would jam or restrict an international signal.

Dated: January 12, 2018.
John E. Smith,
Director, Office of Foreign Assets Control.

[FR Doc. 2018-00940 Filed 1-18-18; 8:45 am]

BILLING CODE 4810-AL-P